NUCLEAR REGULATORY COMMISSION

[NRC-2010-0265]

Final Regulatory Guide: Issuance, Availability

AGENCY: Nuclear Regulatory Commission.

ACTION: Notice of Issuance and Availability of Regulatory Guide 3.71, Revision 2, “Nuclear Criticality Safety Standards for Fuels and Material Facilities.”

FOR FURTHER INFORMATION CONTACT: Tamara D. Powell, U.S. Nuclear Regulatory Commission, Washington, DC 20555-0001, telephone: 301-492-3211 or e-mail: Tamara.Powell@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 3.71, entitled, “Nuclear Criticality Safety Standards for Fuels and Material Facilities,” was issued with a temporary identification as Draft Regulatory Guide, DG-3030. Regulatory Guide 3.71 provides applicants, licensees, and certificate holders with updated guidance concerning criticality safety standards that the NRC has endorsed for use with nuclear fuels and material facilities. As such, Regulatory Guide 3.71 describes methods that the NRC staff considers acceptable for complying with the NRC's regulations in Title 10, of the Code of Federal Regulations, parts 70, “Domestic Licensing of Special Nuclear Material,” and 76, “Certification of Gaseous Diffusion Plants” (10 CFR parts 70 and 76).

The NRC staff has revised Regulatory Guide 3.71 to provide guidance on complying with these portions of the NRC's regulations. This guide describes procedures for preventing nuclear criticality accidents in operations that involve handling, processing, storing, and/or transporting special nuclear material at fuel and material facilities. It also endorses specific nuclear criticality safety standards developed by the American Nuclear Society's Standards Subcommittee 8 (ANS-8), “Operations with Fissionable Materials Outside Reactors.” Regulatory Guide 3.71 is not intended for use by nuclear reactor licensees.

II. Further Information

In July 2010, DG-3030 was published with a public comment period of 60 days from the issuance of the guide. The public comment period closed on September 29, 2010. The staff's responses to the public comments received are located in the NRC's Agencywide Documents Access and Management System under Accession Number ML103210349. Electronic copies of Regulatory guide 3.71, Revision 2 are available through the NRC's public Web site under “Regulatory Guides” at http://www.nrc.gov/reading-rm/doc-collections/.

In addition, regulatory guides are available for inspection at the NRC's Public Document Room (PDR) located at Room O-1F 21, One White Flint North, 11555 Rockville Pike, Rockville, Maryland 20852-2738. The PDR's mailing address is USNRC PDR, Washington, DC 20555-0001. The PDR can also be reached by telephone: 301-415-4737 or 800-397-4209, by fax: 301-415-3548, and by e-mail: pdr@nrc.gov.

Regulatory guides are not copyrighted, and Commission approval is not required to reproduce them.

Dated at Rockville, Maryland this 23rd day of December 2010.
For the Nuclear Regulatory Commission.
John N. Ridgely,
Acting Chief, Regulatory Guide Development Branch, Division of Engineering, Office of Nuclear Regulatory Research.

[FR Doc. 2010-33072 Filed 12-30-10; 8:45 am]

BILLING CODE 7590-01-P